COMMISSION ON CIVIL RIGHTS

Sunshine Act Meeting Notice

AGENCY: United States Commission on Civil Rights (USCCR).

ACTION: Notice.

SUMMARY: The Commission announces a public briefing, Federal Response to Teacher Shortage Impacts on Students with Disabilities.

DATES: Friday, November 15, 2024, 10 a.m. ET.

ADDRESSES: The briefing is open to the public and can be attended via live stream on the Commission's YouTube page at: https://www.youtube.com/usccr.

FOR FURTHER INFORMATION CONTACT: Joe Kim (202) 499-0263; publicaffairs@usccr.gov.

SUPPLEMENTARY INFORMATION: In accordance with Public Law 116-156, 1134 Stat. 700 (2020), the U.S. Commission on Civil Rights will hold a briefing on, Friday, November 15, 2024, on the Federal Response to Teacher Shortage Impacts on Students with Disabilities. This investigation will analyze how national teacher shortages, exacerbated by the 2020 pandemic, have impacted students with disabilities. The investigation will focus on challenges schools face in hiring and retaining special education professionals, and the federal government's response to address these challenges.

This briefing is open to the public and is accessible via live stream at https://www.youtube.com/usccr. (* Streaming information subject to change.)

Computer assisted real-time transcription (CART) will be provided. The web link to access CART (in English) on Friday, November 15, 2024, is https://www.streamtext.net/player?event=USCCR. Please note that CART is text-only translation that occurs in real time during the meeting and is not an exact transcript.

To request additional accommodations, persons with disabilities should email access@usccr.gov by Tuesday, November 12, 2024, indicating “accommodations” in the subject line.

Briefing Agenda for Federal Response to Teacher Shortage Impacts on Students With Disabilities

10 a.m.-4:50 p.m.

All times Eastern Standard Time

I. Introductory Remarks: 10:00-10:10 a.m.

II. Panel 1: Public Education in the Post-Pandemic Era: 10:10-11:20 a.m.

III. Break: 11:20-11:30 a.m.

IV. Panel 2: Education Advocacy Discussion of the Teacher Shortage: 11:30 a.m.-12:40 pm

V. Lunch: 12:40-2:10 p.m.

VI. Panel 3: From the Field: Educators on the Teacher Shortage: 2:10 p.m.-3:20 p.m.

VII. Break: 3:20-3:30 p.m.

VIII. Panel 4: From the Field: Hearing from Impacted Persons: 3:30-4:40 p.m.

IX. Closing Remarks: 4:40-4:50 p.m.

X. Adjourn Meeting.

** Public Comments will be accepted through written testimony.

* Schedule is subject to change.

Call for Public Comments

In addition to the testimony collected on Friday, November 15, 2024, via public briefing, the Commission welcomes the submission of material for consideration as we prepare our report. Please submit such information to teachershortage@usccr.gov no later than December 16, 2024, or by mail to OCRE/Public Comments, ATTN: Teacher Shortage, U.S. Commission on Civil Rights, 1331 Pennsylvania Ave. NW, Suite 1150, Washington, DC 20425.

Dated: November 8, 2024.
TinaLouise Martin,
USCCR Director of Management.

[FR Doc. 2024-26494 Filed 11-8-24; 4:15 pm]

BILLING CODE 6335-01-P